FEDERAL MINE SAFETY AND HEALTH REVIEW COMMISSION

Government Performance and Results Act of 1993

AGENCY: Federal Mine Safety and Health Review Commission.

ACTION: Notice of Request for Comments.

SUMMARY: The Federal Mine Safety and Health Review Commission is notifying interested parties that its draft strategic plan for the fiscal years 2000-2005, is available for public comment. The draft plan, prepared in accordance with the Government Performance and Results Act of 1993 (“GPRA”), defines the Commission's goals, specific objectives, time frames and methods for achieving goals at both the trial and appellate level.

In developing its goals and objectives under GPRA, the Commission solicits the views of those who practice before it and those who are affected by its case dispositions.

DATES: Comments should be received by December 18, 2000.

ADDRESSES: Comments should be sent to Richard L. Baker, Executive Director, Federal Mine Safety and Health Review Commission, 1730 K Street, N.W., Suite 6000, Washington, D.C. 20006, fax: (202) 653-5030; E-mail: Info@FMSHRC.gov., phone: (202) 653-5625, or (202) 708-9300 for TDD Relay.

The draft plan is posted on the Commission's website, http://www.fmshrc.gov/ under “What's New.” Printed copies can also be obtained from the above listed address.

SUPPLEMENTARY INFORMATION: GPRA charges federal agencies with formulating strategic plans, preparing annual plans setting performance goals, and reporting annually the actual agency performance compared to those goals. In considering how best to formulate its goals and objectives, the Commission has sought to develop measures that allow it to better evaluate its performance and ultimately accomplish is statutory mission under the Federal Mine Safety and Health Act of 1977.

The Commission requests that responses to this solicitation for comments be submitted by December 18, 2000.

Dated: October 31, 2000.
Mary Lu Jordan,
Chairman.

[FR Doc. 00-29289 Filed 11-15-00; 8:45 am]

BILLING CODE 6735-01-M